DEPARTMENT OF LABOR

Employment and Training Administration

[TA-W-57,260]

Renfro Corporation, Fort, AL; Dismissal of Application for Reconsideration

Pursuant to 29 CFR 90.18(C) an application for administrative reconsideration was filed with the Director of the Division of Trade Adjustment Assistance for workers at Renfro Corporation, Fort Payne, Alabama. The application contained no new substantial information which would bear importantly on the Department's determination. Therefore, dismissal of the application was issued.

TA-W-57,260; Renfro Corporation Fort Payne, Alabama (August 2, 2005).

Signed in Washington, DC this 5th day of August, 2005.
Timothy Sullivan,
Director, Division of Trade Adjustment Assistance.

[FR Doc. E5-4395 Filed 8-11-05; 8:45 am]

BILLING CODE 4510-30-P